DEPARTMENT OF ENERGY

Supplement to the Environmental Impact Statements for a Geologic Repository for the Disposal of Spent Nuclear Fuel and High-Level Radioactive Waste at Yucca Mountain, Nye County, NV

AGENCY: U.S. Department of Energy.

ACTION: Notice of Intent.

SUMMARY: The U.S. Department of Energy (DOE or the Department) is announcing its intent to prepare a Supplement to the “Final Environmental Impact Statement for a Geologic Repository for the Disposal of Spent Nuclear Fuel and High-Level Radioactive Waste at Yucca Mountain, Nye County, Nevada” (DOE/EIS-0250F, February 2002) (Yucca Mountain Final EIS), and the “Final Supplemental Environmental Impact Statement for a Geologic Repository for the Disposal of Spent Nuclear Fuel and High-Level Radioactive Waste at Yucca Mountain, Nye County, Nevada” (DOE/EIS-0250F-S1, July 2008) (Repository SEIS). The U.S. Nuclear Regulatory Commission (NRC) staff determined, pursuant to Section 114(f)(4) of the Nuclear Waste Policy Act of 1982, as amended (NWPA), that it is practicable to adopt, with further supplementation, DOE's environmental impact statements prepared in connection with the proposed repository at Yucca Mountain, Nye County, Nevada. The NRC staff concluded that the Yucca Mountain Final EIS and Repository SEIS did not address adequately all of the repository-related impacts on groundwater, or from surface discharges of groundwater, and therefore requested that DOE prepare a supplement to these environmental impact statements. Based on a review of the NRC staff evaluation, the Department has decided to prepare the requested supplement.

DATES: The Department invites comments during a 30-day period, which starts with publication of this Notice of Intent and ends November 24, 2008. Comments received after this date will be considered to the extent practicable.

ADDRESSES: Requests for additional information on the supplement or on the repository program in general, or to become a cooperating agency should be directed to: Dr. Jane Summerson, EIS Document Manager, Regulatory Authority Office, Office of Civilian Radioactive Waste Management, U.S. Department of Energy, 1551 Hillshire Drive, Las Vegas, NV 89134, Telephone 1-800-967-3477. Written comments may be submitted to Dr. Jane Summerson at this address, or by facsimile to 1-888-767-0739, or via the Internet at http://www.ocrwm.doe.gov/contact/comments.shtml.

FOR FURTHER INFORMATION CONTACT: For general information regarding the DOE National Environmental Policy Act (NEPA) process contact: Ms. Carol M. Borgstrom, Director, Office of NEPA Policy and Compliance, U.S. Department of Energy, 1000 Independence Ave., SW., Washington, DC 20585, Telephone 202-586-4600, or leave a message at 1-800-472-2756.

SUPPLEMENTARY INFORMATION:

Background

The NWPA directs the Secretary of Energy, if the Secretary decides to recommend approval of the Yucca Mountain site for development of a repository, to submit a final environmental impact statement with any recommendation to the President. The Department prepared the Yucca Mountain Final EIS to fulfill that requirement. The Yucca Mountain Final EIS considered the potential environmental impacts of a repository design for surface and subsurface facilities, and plans for the construction, operation, monitoring, and eventual closure of the repository.

On February 14, 2002, the Secretary, in accordance with the NWPA, transmitted his recommendation (including the Yucca Mountain Final EIS) to the President for approval of the Yucca Mountain site for development of a geologic repository. The President considered the site qualified for application to the NRC for a construction authorization and recommended the site to the U.S. Congress. On July 23, 2002, the President signed into law a joint congressional resolution designating the Yucca Mountain site for development as a geologic repository for the disposal of spent nuclear fuel and high-level radioactive waste.

In 2006, DOE modified its approach to repository design and operational plans. On October 13, 2006, DOE announced that it would prepare a supplement to the Yucca Mountain Final EIS to evaluate potential environmental impacts of the modified repository design and operational plans.

On June 3, 2008, the Department submitted an application to the NRC seeking authorization to construct a geologic repository at Yucca Mountain in Nye County, Nevada. DOE's application was accompanied by the Yucca Mountain Final EIS. On June 16, 2008, DOE submitted the Repository SEIS to the NRC. On July 11, 2008, the Environmental Protection Agency announced in the Federal Register the availability of the Repository SEIS (73 FR 39958).

In accord with Section 114(f)(4) of the NWPA, the NRC shall adopt, to the extent practicable, any environmental impact statement prepared by DOE in connection with the proposed repository. The NRC staff reviewed DOE's Yucca Mountain Final EIS and Repository SEIS, and found that it is practicable to adopt, with further supplementation, these environmental impact statements. The NRC staff concluded that these environmental impact statements did not address adequately all of the repository-related impacts on groundwater, or from surface discharges of groundwater, and therefore requested that DOE prepare a supplement to the Yucca Mountain Final EIS and the Repository SEIS. Based on a review of the NRC staff evaluation, the Department has decided to prepare the requested supplement.

The requested supplement will analyze further the repository-related impacts on groundwater, and from surface discharges of groundwater. More specifically, the supplement will describe the extent of the volcanic-alluvial aquifer, particularly those parts that could become contaminated, and how water (and potential contaminants) can leave the flow system. In addition, the supplement will provide an analysis of the cumulative amount of radiological and non-radiological contaminants that can be reasonably expected to enter the aquifer from the repository, and the amount that could reasonably remain over time. This information will be used to estimate contamination in the groundwater, given potential accumulation of radiological and non-radiological contaminants.

The supplement also will provide a discussion of the impacts on soils and surface materials from the processes involved in surface discharges of contaminated groundwater. A description of locations of potential natural discharge of contaminated groundwater for present and expected future wetter periods will be included, as will a description of the physical processes at surface discharge locations that can affect accumulation, concentration, and potential remobilization of groundwater-borne contaminants. This information will be used to develop estimates of the amount of contaminants that could be deposited at or near the surface, and potential environmental impacts.

Schedule

The Department intends to issue the Draft Supplement in the spring of 2009, at which time its availability will be announced in the Federal Register and in media in Nevada. A public comment period will start upon publication of the Environmental Protection Agency's Notice of Availability in the Federal Register. DOE will hold a public hearing during the comment period. The Department will consider and respond to comments received on the draft supplement in preparing the final supplement.

Public Reading Rooms

Documents referenced in this Notice of Intent and related information are available at the following locations: Nye County Department of Natural Resources and Federal Facilities, 1210 E. Basin Road, Suite #6, Pahrump, NV 89060 (775) 727-7727; Pahrump Community Library, 701 East Street, Pahrump, NV 89041 (775) 727-5930; Beatty Library District, 400 N. 4th Street, Beatty, NV 89003 (775) 553-2257; Amargosa Valley Library District, 829 East Farm Road, Amargosa, NV 89020 (775) 372-5340; University of Nevada, Reno, The University of Nevada Libraries, Business and Government Information Center, M/S 322, 1664 N. Virginia Street, Reno, NV 89557, (775) 784-6500, Ext. 309; Yucca Mountain Repository Assessment Office, 135 South Jackson Street, Independence, CA 93526 (760) 878-0030; National Nuclear Agency Administration Nevada Site Office, Public Reading Room, Frank H. Rogers Building, 755 C East Flamingo Road, Suite 103, Las Vegas, NV 89119 (702) 794-5117; and the U.S. Department of Energy Headquarters Office Public Reading Room, 1000 Independence Avenue, SW., Room 1E-190 (ME-74) FORS, Washington, DC 20585, 202-586-3142.

Issued in Washington, DC, on October 21, 2008.
Edward F. Sproat, III,
Director, Office of Civilian Radioactive Waste Management.

[FR Doc. E8-25407 Filed 10-23-08; 8:45 am]

BILLING CODE 6450-01-P